DEPARTMENT OF DEFENSE

Department of the Army

Record of Decision for Real Property Master Plan Implementation at Military Ocean Terminal Sunny Point, North Carolina (ID# EISX-007-21-001-1751989587)

AGENCY: Department of the Army, DoD.

ACTION: Notice of availability.

SUMMARY: The Department of the Army (Army) announces the availability of a Record of Decision (ROD) regarding the proposed implementation of real property actions at Military Ocean Terminal Sunny Point (MOTSU), North Carolina. In accordance with the National Environmental Policy Act (NEPA), the ROD identifies the Army's selected alternative, the basis for its selection, the environmentally preferred alternative, and the mitigation and protective measures the Army commits to implement with the selected alternative. The ROD is based on the results of the Army's Final Environmental Impact Statement (EIS), which analyzed the potential effects of the implementation of various projects needed for the safety and mission of the facility and provides an analysis of the effects of implementing real property maintenance, repair, upgrade, and development actions. The proposed action is needed to address improvements to real property related to explosive safety, waterfront maintenance, security, and linear infrastructure. The projects and programs address compliance with federal, state, DoD, and Army standards vital to safety, security, and other mission needs. The EIS includes a final Finding of No Practicable Alternative (FONPA) prepared because portions of the proposed action occur in floodplains or involve construction in wetlands, or both.

FOR FURTHER INFORMATION CONTACT: Frederick Rice, Director, Public and Congressional Affairs Office, Military Surface Deployment and Distribution Command; telephone: (618) 220-6284; email: frederick.l.rice.civ@army.mil.

SUPPLEMENTARY INFORMATION: MOTSU is the Army Transportation Command's East Coast strategic ammunition port and is among DoD's seaports supporting global operations. The proposed action includes barricade safety, waterfront maintenance, Pleasure Island Explosive Safety Clear Zone security, linear infrastructure (e.g., roads, rail, utilities, firebreaks), stormwater mitigation, and cantonment area infill. The proposed action also includes modernizing operation areas and general repair and maintenance of infrastructure, to include facilities, wharves, roads, rail, utilities, and perimeter security. The proposed projects address critical mission requirements and are planned for fiscal years 2026 through 2031.

The FEIS—published on July 9, 2025, and prepared in parallel with federal consultation processes (e.g., section 106 of the National Historic Preservation Act and section 7 of the Endangered Species Act)—evaluated the potential effects associated with implementing the proposed activities. The Army evaluated two alternatives that would meet the Proposed Action's purpose and need:

1. Full Implementation Alternative (Preferred Alternative): This alternative would implement the complete suite of 14 projects that are required improvements to real property related to explosive safety, waterfront maintenance, security, and linear infrastructure.

2. Partial Implementation Alternative: This alternative would implement a reduced set of 12 projects. Although the Partial Implementation Alternative would not address all requirements as comprehensively as the Full Implementation Alternative, it would substantially improve conditions and adequately address immediate installation needs.

Under the No-Action Alternative, the projects would not be implemented. While the No-Action Alternative would not satisfy the Proposed Action's purpose and need, in accordance with NEPA regulations, the No-Action Alternative provides a comparative baseline for gauging the Action Alternatives' potential effects.

The Final EIS determined the Full Implementation Alternative and Partial Implementation Alternatives would have potentially significant adverse effects on wetlands. The Army prepared a Finding of No Practicable Alternative (FONPA) addressing potential effects on wetlands and floodplains. The FONPA is included as an appendix to the Final EIS. The Final EIS concluded the adverse effects on all analyzed resources other than wetlands would be less than significant under either action alternative.

Based on the analysis presented in the Final EIS, the Full Implementation Alternative is the Army's selected alternative because it provides the improvements necessary to support MOTSU's mission and ensure safety.

The ROD adopts multiple mitigation and protective measures to prevent or minimize the potential adverse environmental effects of the Full Implementation Alternative. The Army is using all practicable means to avoid or minimize environmental harm caused by the selected alternative. MOTSU Department of Public Works Environmental personnel will review the planning documents for each of the proposed projects prior to initiation to ensure compatibility with applicable regulatory requirements, best management practices, and minimization measures. Additional surveys, sampling, or testing may be required.

The ROD is available on the project website at: https://www.army.mil/artrans#org-about. Publication of the ROD formally concludes the NEPA process for this Proposed Action. The Army will proceed with the Full Implementation Alternative described in the Final EIS and will execute the mitigation and protective measures identified in the ROD.

(Authority: 42 U.S.C. 4321 et seq. (1969)).

James W. Satterwhite Jr.,
U.S. Army Federal Register Liaison Officer.

[FR Doc. 2025-23876 Filed 12-23-25; 8:45 am]

BILLING CODE 3711-CC-P